DEPARTMENT OF COMMERCE

International Trade Administration

[A-570-894]

Certain Tissue Paper Products from the People's Republic of China: Notice of Extension of Time Limit for Final Results of First Antidumping Duty Administrative Review

AGENCY: Import Administration, International Trade Administration, Department of Commerce.

EFFECTIVE DATE: April 19, 2007.

FOR FURTHER INFORMATION CONTACT: Kristina Horgan or Bobby Wong, AD/CVD Operations, Office 9, Import Administration, International Trade Administration, U.S. Department of Commerce, 14th Street and Constitution Avenue, NW, Washington, DC 20230; telephone: (202) 482-8173 or (202) 482-0409, respectively.

SUPPLEMENTARY INFORMATION:

Background

On April 9, 2007, the Department of Commerce (the Department) published in the Federal Register the preliminary results of this antidumping duty administrative review. See Certain Tissue Paper Products from the People's Republic of China: Preliminary Results of Antidumping Duty Administrative Review, 72 FR 17477 (April 09, 2007).

Extension of Time Limits for Final Results

Pursuant to Section 751(a)(3)(A) of the Tariff Act of 1930, as amended (the Act), and section 351.213(h)(1) of the Department's regulations, the Department shall issue the final results of review within 120 days after the date on which the notice of the preliminary results was published in the Federal Register. However, if the Department determines that it is not practicable to complete the review within this time period, section 751(a)(3)(A) of the Act and section 351.213(h)(2) of the Department's regulations allow the Department to extend this time period to 180 days.

In the instant review, the Department finds that the current deadline for the final results is impracticable. Specifically, the Department requires additional time to conduct verifications of the exporters and their producers and to review and analyze interested party comments, including issues involving alleged third-country shipments of subject merchandise. As a result, the Department has determined to extend the current time limits of this administrative review. For these reasons, the Department is fully extending the time limit for the completion of these final results until no later than Tuesday, October 9, 2007, in accordance with section 751(a)(3)(A) of the Act.

This notice is issued and published in accordance with sections 751(a)(3)(A) and 777(i)(1) of the Act.

Dated: April 12, 2007.
Stephen J. Claeys,
Deputy Assistant Secretary for Import Administration.

[FR Doc. E7-7452 Filed 4-18-07; 8:45 am]

BILLING CODE 3510-DS-S